DEPARTMENT OF HOMELAND SECURITY

Coast Guard

[Docket No. USCG-2019-0349]

National Offshore Safety Advisory Committee

AGENCY: U.S. Coast Guard, Department of Homeland Security.

ACTION: Notice of Federal Advisory Committee Meeting.

SUMMARY: The National Offshore Safety Advisory Committee and its Subcommittee will meet in Katy, Texas to discuss Committee matters relating to the safety of operations and other matters affecting the offshore oil and gas industry. All meetings will be open to the public.

DATES:

Meetings: The National Offshore Safety Advisory Committee and its Subcommittee will meet on Tuesday, September 10, 2019 and on Wednesday, September 11, 2019. The Use of Offshore Supply Vessels and Other Non-Purpose Built Vessels for Restoration/Recovery Activities Subcommittee will meet on Tuesday, September 10, 2019 from 1 p.m. to 4 p.m. The full Committee will meet on Wednesday, September 11, 2019, from 8 a.m. to 6 p.m. (All times are Central Time). Please note that these meetings may close early if the Committee has completed its business.

Comments and supporting documentation: To ensure your comments are received by Committee members before the meetings, submit your written comments no later than August 27, 2019.

ADDRESSES: All meetings will be held at DNV GL USA Facility, 1400 Ravello Drive, Katy, Texas 77449.

For information on facilities or services for individuals with disabilities or to request special assistance at the meetings, contact the individuals listed in the FOR FURTHER INFORMATION CONTACT section as soon as possible.

Instructions: You are free to submit comments at any time, including orally at the meetings, but if you want Committee members to review your comment before the meetings, please submit your comments no later than August 27, 2019. We are particularly interested in the comments in the “Agenda” section below. You must include “Department of Homeland Security” and docket number USCG-2019-0349. Written comments may also be submitted using the Federal eRulemaking Portal at http://www.regulations.gov. If you encounter technical difficulties with comments submission, contact the individual listed in the FOR FURTHER INFORMATION CONTACT section below. Comments received will be posted without alteration at http://www.regulations.gov, including any personal information provided. For more information about the privacy and docket, review the Privacy and Security Notice for the Federal Docket Management System at https://www.regulations.gov/privacyNotice.

Docket Search: For access to the docket to read documents or comments related to this notice, go to http://www.regulations.gov, and insert “USCG-2019-0349)” in the “Search” box, press Enter, and then click on the item you wish to view.

FOR FURTHER INFORMATION CONTACT: Commander Myles Greenway, Designated Federal Officer of the National Offshore Safety Advisory Committee, Commandant (CG-OES-2), U.S. Coast Guard, 2703 Martin Luther King Jr. Avenue SE, Stop 7509, Washington, DC 20593-7509; telephone (202) 372-1410, fax (202) 372-8382 or email: myles.j.greenway@uscg.mil, or Mr. Patrick Clark, telephone (202) 372-1358, fax (202) 372-8382 or email patrick.w.clark@uscg.mil.

SUPPLEMENTARY INFORMATION: Notice of this meeting is in compliance with the Federal Advisory Committee Act, (Title 5 U.S.C. Appendix). The National Offshore Safety Advisory Committee provides advice and recommendations to the Department of Homeland Security on matters relating to activities directly involved with or in support of the exploration of offshore mineral and energy resources insofar as they relate to matters within Coast Guard jurisdiction.

Agenda

Day 1

The National Offshore Safety Advisory Committee's Use of Offshore Supply Vessels and Other Non-Purpose Built Vessels for Restoration/Recovery Activities Subcommittee will meet on September 10, 2019 from 1:00 p.m. to 4:00 p.m. (Central Time) to review, discuss and formulate recommendations to be presented to the full Committee during the September 11, 2019 public meeting.

Day 2

The National Offshore Safety Advisory Committee will hold a public meeting on September 11, 2019 from 8 a.m. to 6 p.m. (Central Time) to review and discuss the progress of, and any reports and recommendations received from the above listed subcommittee from their deliberations. The Committee will then use this information and consider public comments in discussing and formulating recommendations to the United States Coast Guard. Public comments or questions will be taken at the discretion of the Designated Federal Officer during the discussion and recommendation portions of the meeting and during the public comment period, see Agenda item (5). A complete agenda for the September 11, 2019 full Committee meeting is as follows:

(1) Welcoming remarks.

(2) General administration and acceptance of minutes from the March 20, 2019 National Offshore Safety Advisory Committee public meeting.

(3) Current business—Presentation and discussion of progress from the Use of Offshore Supply Vessels and Other Non-Purpose Built Vessels for Restoration/Recovery Activities Subcommittee.

(4) New Business—

(a) Status of National Offshore Safety Advisory Committee Recommendations to the U.S. Coast Guard.

(b) Presentation and discussion on future trends anticipated by classification societies.

(c) Presentation on Industry views of the new Well Control Rule.

(d) International Association of Drilling Contractors Presentation on trade association views of the new Well Control Rule.

(e) Bureau of Safety and Environmental Enforcement—Regulator view of the new Well Control Rule.

(f) Maritime Administration Update.

(5) Public comment period.

A copy of all meeting documentation will be available at https://homeport.uscg.mil/missions/ports-and-waterways/safety-advisory-committees/nosac/meetings no later than August 27, 2019. Alternatively, you may contact Commander Myles Greenway or Mr. Patrick Clark as noted in the FOR FURTHER INFORMATION CONTACT section above.

Public comments or questions will be taken throughout the meeting as the Committee discusses the issues and prior to deliberations and voting. There will also be a public comment period at the end of the meeting. Speakers are requested to limit their comments to 3 minutes. Please note that the public comment period may end before the period allotted, following the last call for comments. Contact the individuals listed in the FOR FURTHER INFORMATION CONTACT section above to register as a speaker.

Dated: July 28, 2019.
Jeffery G. Lantz,
Director of Commercial Regulations and Standards.

[FR Doc. 2019-15788 Filed 7-24-19; 8:45 am]

BILLING CODE 9110-04-P